CONSUMER PRODUCT SAFETY COMMISSION

16 CFR Part 1211

Safety Standard for Automatic Residential Garage Door Operators

AGENCY: Consumer Product Safety Commission.

ACTION: Final rule.

SUMMARY: The Consumer Product Safety Commission is amending 16 CFR part 1211, Safety Standard for Automatic Residential Garage Door Operators, to reflect changes made by Underwriters Laboratories, Inc. in its standard UL 325.

DATES: This rule is effective on February 21, 2008, except for § 1211.14(b)(2) which is effective September 27, 2007.

FOR FURTHER INFORMATION CONTACT: Renae Rauchschwalbe, Office of Compliance and Field Operations, Consumer Product Safety Commission, 4330 East-West Highway, Bethesda, Maryland, 20814-4408, telephone 301-504-7664 or e-mail: rrauchschwalbe@cpsc.gov.

SUPPLEMENTARY INFORMATION: The Commission is amending its garage door operator standard, 16 CFR part 1211, to incorporate changes made to Underwriter Laboratories, Inc. (“UL”) standard UL 325, third edition, “Door, Drapery, Louver and Window Operators and Systems.” In 1991, Congress mandated the entrapment protection provisions of the UL 325 standard as a consumer product safety standard. Sec 203 of Public Law 101-608. Congress also required the Commission to incorporate into part 1211 any revisions that UL proposed to the entrapment protection requirements of UL 325, unless the Commission notified UL that the revision does not carry out the purposes of Public Law 101-608.

Recently, UL revised some provisions of UL 325 to address the hazard of children becoming entrapped if a child becomes stuck under a partially open door and the door moves down when a bystander presses the wall control button. The Commission determined that the entrapment related revisions incorporated into the UL standard do carry out the purposes of Public Law 101-608. On January 18, 2007, the Commission issued a notice of proposed rulemaking (“NPR”) to revise part 1211 to reflect the changes UL made to UL 325. 72 FR 2217. The Commission received no comments on the proposal and is now making the revisions final.

UL set an effective date of February 21, 2008 for the changes to the entrapment protection requirements in the UL standard. The Commission is specifying the same effective date for these provisions in the CPSC standard.

UL also added to its standard a requirement that the statement “Never go under a stopped partially open door” be added to garage door operator instruction manuals. The Commission is making this change in the CPSC standard as well. UL set an effective date of September 14, 2004 for this provision in UL 325. The instruction manual provision in the CPSC standard would become effective when published as a final rule in the Federal Register.

Pursuant to section 605(b) of the Regulatory Flexibility Act, 5 U.S.C. 605(b), in the NPR the Commission certified that this rule will not have a significant impact on a substantial number of small entities. The Commission also certified in the NPR that this rule will have no environmental impact.

Public Law 101-608 contains a preemption provision. It states: “those provisions of laws of States or political subdivisions which relate to the labeling of automatic residential garage door openers and those provisions which do not provide at least the equivalent degree of protection from the risk of injury associated with automatic residential garage door openers as the consumer product safety rule” are subject to preemption under 15 U.S.C. 2075. Public Law 101-608, section 203(f).

List of Subjects in 16 CFR Part 1211

Consumer protection, Imports, Labeling, Reporting and recordkeeping requirements.

Accordingly, 16 CFR part 1211 is amended as follows:

PART 1211—SAFETY STANDARDS FOR AUTOMATIC RESIDENTIAL GARAGE DOOR OPERATORS

1. The authority citation for part 1211 continues to read as follows:

Authority: Sec. 203 of Pub. L. 101-608, 104 Stat. 3110; 15 U.S.C. 2063 and 2065.

2. Section 1211.7 is amended by revising paragraphs (a), (b), (f) and (g) to read as follows:

§ 1211.7 Inherent entrapment protection requirements.

(a)(1) Other than for the first 1 foot (305mm) of door travel from the full upmost position both with and without any external entrapment protection device functional, the operator of a downward moving residential garage door shall initiate reversal of the door within 2 seconds of contact with the obstruction as specified in paragraph (b) of this section. After reversing the door, the operator shall return the door to, and stop at, the full upmost position. Compliance shall be determined in accordance with paragraphs (b) through (i) of this section.

(2) The door operator is not required to return the door to, and stop the door at, the full upmost position when the operator senses a second obstruction during the upward travel.

(3) The door operator is not required to return the door to, and stop the door at, the full upmost position when a control is actuated to stop the door during the upward travel—but the door can not be moved downward until the operator reverses the door a minimum of 2 inches (50.8 mm).

(b)(1) A solid object is to be placed on the floor of the test installation and at various heights under the edge of the door and located in line with the driving point of the operator. When tested on the floor, the object shall be 1 inch (25.4 mm) high. In the test installation, the bottom edge of the door under the driving force of the operator is to be against the floor when the door is fully closed.

(2) For operators other than those attached to the door, a solid object is not required to be located in line with the driving point of the operator. The solid object is to be located at points at the center, and within 1 foot of each end of the door.

(3) To test operators for compliance with requirements in paragraphs (a)(3), (f)(3), and (g)(3) of this section, § 1211.10(a)(6)(iii), and § 1211.13(c), a solid rectangular object measuring 4 inches (102 mm) high by 6 inches (152 mm) wide by a minimum of 6 inches (152 mm)long is to be placed on the floor of the test installation to provide a 4-inch (102 mm) high obstruction when operated from a partially open position.

* * * * *

(f)(1) An operator, using an inherent entrapment protection system that monitors the actual position of the door, shall initiate reversal of the door and shall return the door to, and stop the door at, the full upmost position in the event the inherent door operating “profile” of the door differs from the originally set parameters. The entrapment protection system shall monitor the position of the door at increments not greater than 1 inch (25.4 mm).

(2) The door operator is not required to return the door to, and stop the door at, the full upmost position when an inherent entrapment circuit senses an obstruction during the upward travel.

(3) The door operator is not required to return the door to, and stop the door at, the full upmost position when a control is actuated to stop the door during the upward travel—but the door can not be moved downward until the operator reverses the door a minimum of 2 inches (50.8 mm).

(g)(1) An operator, using an inherent entrapment protection system that does not monitor the actual position of the door, shall initiate reversal of the door and shall return the door to and stop the door at the full upmost position, when the lower limiting device is not actuated in 30 seconds or less following the initiation of the close cycle.

(2) The door operator is not required to return the door to, and stop the door at, the full upmost position when an inherent entrapment circuit senses an obstruction during the upward travel. When the door is stopped manually during its descent, the 30 seconds shall be measured from the resumption of the close cycle.

(3) The door operator is not required to return the door to, and stop the door at, the full upmost position when a control is actuated to stop the door during the upward travel—but the door can not be moved downward until the operator reverses the door a minimum of 2 inches (50.8 mm). When the door is stopped manually during its descent, the 30 seconds shall be measured from the resumption of the close cycle.

3. Section 1211.10 is amended by revising paragraph (a)(1) and adding a new paragraph (a)(6) to read as follows:

§ 1211.10 Requirements for all entrapment protection devices.

(a) General requirements. (1) An external entrapment protection device shall perform its intended function when tested in accordance with paragraphs (a)(2) through (4) and (6) of this section.

* * * * *

(6)(i) An operator using an external entrapment protection device, upon detecting a fault or an obstruction in the path of a downward moving door, shall initiate reversal and shall return the door to, and stop the door at, the full upmost position.

(ii) The door operator is not required to return the door to, and stop the door at, the full upmost position when an inherent entrapment circuit senses an obstruction during the upward travel.

(iii) The door operator is not required to return the door to, and stop the door at, the full upmost position when a control is actuated to stop the door during the upward travel—but the door can not be moved downward until the operator has reversed the door a minimum of 2 inches (50.8 mm).

4. Section 1211.13 is amended by adding a new paragraph (c) to read as follows:

§ 1211.13 Inherent force activated secondary door sensors.

(a) * * *

(b) * * *

(c) Obstruction test. For a door traveling in the downward direction, when an inherent secondary entrapment protection device senses an obstruction and initiates a reversal, a control activation shall not move the door downward until the operator reverses the door a minimum of 2 inches (50.8 mm). The test is to be performed as described in § 1211.7(b)(3).

§ 1211.14 [Amended]

5. Section 1211.14 is amended by revising paragraph (b)(2) to read as follows:

(a) * * *

(b) Specific required instructions.

(1) * * *

(2) The User Instructions shall include the following instructions:

Important Safety Instructions

Warning—To reduce the risk of severe injury or death:

1. Read and follow all instructions.

2. Never let children operate, or play with door controls. Keep the remote control away from children.

3. Always keep the moving door in sight and away from people and objects until it is completely closed. No one should cross the path of the moving door.

4. NEVER GO UNDER A STOPPED PARTIALLY OPEN DOOR.

5. Test door opener monthly. The garage door MUST reverse on contact with a 1½ inch object (or a 2 by 4 board laid flat) on the floor. After adjusting either the force or the limit of travel, retest the door opener. Failure to adjust the opener properly may cause severe injury or death.

6. For products requiring an emergency release, if possible, use the emergency release only when the door is closed. Use caution when using this release with the door open. Weak or broken springs may allow the door to fall rapidly, causing injury or death.

7. Keep garage door properly balanced. See owner's manual. An improperly balanced door could cause severe injury or death. Have a qualified service person make repairs to cables, spring assemblies and other hardware.

8. Save these Instructions.

Dated: September 18, 2007.
Todd A. Stevenson,
Secretary, Consumer Product Safety Commission.

[FR Doc. E7-18846 Filed 9-26-07; 8:45 am]

BILLING CODE 6335-01-P